DEPARTMENT OF HOMELAND SECURITY

Coast Guard

[Docket No. USCG-2017-0025]

National Offshore Safety Advisory Committee

AGENCY: Coast Guard, Department of Homeland Security.

ACTION: Notice of teleconference meeting.

SUMMARY: The National Offshore Safety Advisory Committee will meet via teleconference to review and accept the minutes from the Fall 2016 Committee meeting and to discuss the issuance of a task statement to the Committee. The task statement is being issued by the U.S. Coast Guard and requests the Committee's input on Safety Management Systems for vessels engaging in Well Intervention Activities. This teleconference is open to the public.

DATES: The Committee will meet by teleconference on Tuesday February 21, 2017 from 10 a.m. Eastern Standard Time and will last approximately one hour. This meeting may end early if the Committee has completed its business, or it may be extended based on the number of public comments.

ADDRESSES: The meeting will be conducted via teleconference and the call in number is 1-855-475-2447. The participant code is 652 375 79. The number of teleconference lines is limited and will be available on a first come, first served basis.

For information on services for individuals with disabilities, or to request special assistance at the meeting, contact the individuals listed in the FOR FURTHER INFORMATION CONTACT section as soon as possible.

Instructions: To facilitate public participation, written comments on the issues to be considered by the Committee, as listed in the “Agenda” section below, must be submitted no later than February 7, 2017, if you want the Committee members to be able to review your comments before the meeting. You must include the words “Department of Homeland Security” and the docket number for this action. Written comments may be submitted using the Federal e-Rulemaking Portal at http://www.regulations.gov. If you encounter technical difficulties with comment submission, contact the individuals listed in the FOR FURTHER INFORMATION CONTACT section of this notice. Comments received will be posted without alteration at http://www.regulations.gov, including any personal information provided. You may review a Privacy Act notice regarding the Federal Docket Management System in the March 24, 2005, issue of the Federal Register (70 FR 15086).

Docket Search: For access to the docket or to read documents or comments related to this notice, go to http://www.regulations.gov, insert USCG-2017-0025 in the Search box, press Enter, and then click on the item you wish to view.

FOR FURTHER INFORMATION CONTACT: Commander Jose Perez, Designated Federal Officer of the National Offshore Safety Advisory Committee, Commandant (CG-OES-2), U.S. Coast Guard, 2703 Martin Luther King Jr. Avenue SE., Stop 7509, Washington, DC 20593-7509; telephone (202) 372-1410, fax (202) 372-8382 or email jose.a.perez3@uscg.mil, or Mr. Pat Clark, telephone (202) 372-1358, fax (202) 372-8382 or email Patrick.w.clark@uscg.mil.

SUPPLEMENTARY INFORMATION: Notice of this meeting is in compliance with the Federal Advisory Committee Act, (Title 5, United States Code Appendix). The National Offshore Safety Advisory Committee provides advice and recommendations to the Department of Homeland Security on matters and actions concerning activities directly involved with or in support of the exploration of offshore mineral and energy resources insofar as they relate to matters within U.S. Coast Guard jurisdiction.

A copy of all meeting documentation will be available within 90 days following the teleconference at https://homeport.uscg.mil/nosac. Alternatively, you may contact Mr. Pat Clark as noted in the FOR FURTHER INFORMATION CONTACT section above.

Agenda

The National Offshore Safety Advisory Committee will meet via teleconference on February 21, 2017 to discuss the introduction of a new task statement, “Safety Management Systems for Vessels Engaging in Well Intervention Activities”. The task statement may be viewed by accessing the above listed Web site. Public comments or questions will be taken at the discretion of the Designated Federal Officer during the discussion and recommendation portions of the meeting and during the public comment period, see Agenda item (4).

A complete agenda for February 21, 2017 Committee meeting is as follows:

(1) Welcoming remarks.

(2) Review and accept minutes from November 2016 Committee public meeting.

(3) New Business—Introduction of task statement requesting National Offshore Safety Advisory Committee input on Safety Management Systems for Vessels Engaging in Well Intervention Activities.

(4) Public comment period.

A public oral comment period will be held during the teleconference, and speakers are requested to limit their comments to 3 minutes. Contact one of the individuals listed above to register as a speaker.

The agenda and the proposed new task statement will be available at https://homeport.uscg.mil/nosac for viewing by February 7, 2017. Alternatively, you may contact Mr. Pat Clark in the FOR FURTHER INFORMATION CONTACT.

Minutes

Meeting minutes from this public meeting will be available for public viewing and copying at https://homeport.uscg.mil/nosac following the close of the meeting to May 1, 2017.

Dated: January 26, 2017.
J.G. Lantz,
Director of Commercial Regulations and Standards.

[FR Doc. 2017-02242 Filed 2-1-17; 8:45 am]

BILLING CODE 9110-04-P